DEPARTMENT OF THE TREASURY

Submission for OMB Review; Comment Request

September 16, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before October 24, 2005 to be assured of consideration.

Internal Revenue Service (IRS)

OMB Number: 1545-0619.

Type of Review: Revision.

Title: Credit for Increasing Research Activities.

Form: IRS form 6765.

Description: IRC section 38 allows for credit against income tax (Determined under IRC section 41) for an increase in research activities in a trade or business. Form 6765 is used by businesses and individuals engaged in a trade or business to figure and report credit. The data is used to verify that the credit claimed is correct.

Respondents: Business or other-for-profit.

Estimated Total Burden Hours: 455,233 hours.

OMB Number: 15451257.

Type of Review: Extension.

Title: Credit for Prior Year Minimum Tax—Corporation.

Form: IRS form 8827.

Description: Section 53(d), as revised, allows corporation a minimum tax credit based on the full amount of alternative minimum tax incurred in tax years beginning after 1989, or a carry forward for use in a future year.

Respondents: Business or other for profit.

Estimated Total Burden Hours: 25,000 hours.

OMB Number: 1545-1653.

Type of Review: Extension.

Title: Revenue Procedure 99-26 Secured Employee Benefits Settlement Initiative.

Description: This revenue procedure provides taxpayers options to settle cases in which they accelerated deductions for accrued employee benefits secured by a letter of credit, bond, or other similar financial instrument.

Respondents: Business or other for-profit.

Estimated Total Burden Hours: 2,000 hours.

Clearance Officer: Glenn P. Kirkland, (202) 622-3428, Internal Revenue Service, Room 6516, 1111 Constitution Avenue, NW., Washington, DC 20224.

OMB Reviewer: Alexander T. Hunt, (202) 395-7316, Office of Management and Budget, Room 10235, New Executive Office Building, Washington, DC 20503.

Michael A. Robinson,
Treasury PRA Clearance Officer.

[FR Doc. 05-19043 Filed 9-22-05; 8:45 am]

BILLING CODE 4830-01-P